FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General Advance notice and to wait designated periods before consummation of such plans. Section 7A(b)(2) of the Act permits the agencies, in individual cases, to terminate this waiting period prior to its expirationa nd requires that notice of this action be published in the Federal Register.

The following transactions were granted early terminated of the witing period provided by law and the premerger notification rules. The grants were made by the Federal Trade Commission and the Assistant Attorney General for the Antitrust Division of the Department of Justice. Neither agency intends to take any action with respect to these proposed acquisitions during the applicable waiting period.

Trans# | Acquiring | Acquired | Entities
Transactions Granted Early Termination—10/15/2001
20012431 | The Mead Corporation | Westvaco Corporation | Westvaco Corporation.
20012432 | Westvaco Corporation | The Mead Corporation | The Mead Corporation.
20020004 | Dennis Wood | Solectron Corporation | Solectron Corporation.
20020006 | Flextronics International Ltd | Xerox Corporation | Xerox Corporation.
20020007 | Paul G. Allen | High Speed Access Corp | High Speed Access Corp.
20020011 | Solectron Corporation | Stream International Inc | Stream International Inc.
20020012 | El Paso Energy Partners, L.P | El Paso Corporation | Deepwater Holdings, L.L.C.
20020016 | Sun Capital Partners II, L.P | Brunswick Corporation | Igloo Holding, Inc. Igloo Products Corp.
20020017 | Mellon Financial Corporation | Eagle Investment Systems Corp | Eagle Investment Systems Corp.
Transactions Granted Early Termination—10/16/2001
20012471 | M. Francois Pinault | Gucci Group N.V | Gucci Group N.W.
Transactions Granted Early Termination—10/18/2001
20012467 | O. Bruton Smith | Ray Childress Acquisition I, L.O | Ray Childress Acquisition I, L.P.
20012473 | UTI Corporation | Unique Instruments, Inc | Unique Instruments, Inc.
20020018 | AirGate PCS, Inc | iPCS, Inc | iPCS, Inc.
Transactions Granted Early Termination—10/19/2001
20020005 | Stiching Interbrew | Brauerei Beck GmbH & Co. KG | Brauerei Beck GmbH & Co. KH.
20020019 | General Electric Company | Spirent pic | Spirent Sensing, Inc.
20020029 | Hitachi, Ltd | Tactica Holdings, Inc | Tactica Holdings, Inc.
20020031 | Hilfreich Foundation | The Resort at Summerlin Limited Partnership | The Resort at Summerlin Limited, Partnership.
20020034 | Blackstone iPCS Capital Partners L.P. | AirGate PCS, Inc | AirGate PCS, Inc.
20020035 | Blackstone Communications Partners I, L.P | AirGate PCS, Inc | AirGate PCS, Inc.
Transactions Granted Early Termination—10/22/2001
20020041 | nv Nuon | Utilities, Inc | Utilities, Inc.
Transactions Granted Early Termination—10/23/2001
20020010 | Ascension Health | Baptist Hospital System, Inc | Baptist Hospital System, Inc.
20020033 | The Bank of New York Company, Inc | Westminster Research Associates, Inc | Westminster Research Associates, Inc.
Transactions Granted Early Termination—10/26/2001
20020022 | Daughters of Charity Ministry Service Corporation | Catholic Healthcare West | Catholic Healthcare West.

FOR FURTHER INFORMATION CONTACT: Sandra M. Peay or Parcellena P. Fielding, Contact Representatives, Federal Trade Commission, Premerger Notification Officer, Bureau of Competition, Room 303, Washington, DC 20580, (202) 326-3100.

By Direction of the Commission.

Donald S. Clark,
Secretary.

[FR Doc. 01-28941 Filed 11-19-01; 8:45 am]

BILLING CODE 6750-01-M